DEPARTMENT OF THE INTERIOR

Fish and Wildlife Service

50 CFR Part 17

[Docket No. FWS-R2-ES-2012-0047; 4500030113]

Endangered and Threatened Wildlife and Plants; 90-Day Finding on a Petition to List Graptopetalum bartramii (Bartram Stonecrop) and Pectis imberbis (Beardless Chinch Weed) as Endangered or Threatened and Designate Critical Habitat

AGENCY: Fish and Wildlife Service, Interior.

ACTION: Notice of petition finding and initiation of status review.

SUMMARY: We, the U.S. Fish and Wildlife Service (Service), announce a 90-day finding on a petition to list Graptopetalum bartramii (Bartram stonecrop) and Pectis imberbis (beardless chinch weed) as endangered or threatened under the Endangered Species Act of 1973, as amended (Act), and to designate critical habitat. Based on our review, we find that the petition presents substantial scientific or commercial information indicating that listing Bartram stonecrop and beardless chinch weed may be warranted. Therefore, with the publication of this notice, we will initiate a review of the status of these species to determine if listing Bartram stonecrop or beardless chinch weed, or both, is warranted. To ensure that our status review is comprehensive, we request scientific and commercial data and other information regarding these species. Based on the status review, we will issue a 12-month finding on the petition, which will address whether the petitioned action is warranted, as provided in section 4(b)(3)(B) of the Act.

DATES: To allow us adequate time to conduct this review, we request that we receive information on or before October 9, 2012. The deadline for submitting an electronic comment using the Federal eRulemaking Portal (see ADDRESSES section, below) is 11:59 p.m. Eastern Time on this date. After October 9, 2012, you must submit information directly to the Division of Policy and Directives Management (see ADDRESSES section below). Please note that we might not be able to address or incorporate information that we receive after the above requested date.

ADDRESSES: You may submit information by one of the following methods:

(1) Electronically: Go to the Federal eRulemaking Portal: http://www.regulations.gov and Search for Docket No. FWS-R2-ES-2012-0047, which is the docket number for this action. If your submission will fit in the provided comment box, please use this feature of http://www.regulations.gov, as it is most compatible with our information collection procedures. If you attach your submission as a separate document, our preferred file format is Microsoft Word. If you attach multiple documents (such as form letters), our preferred format is a spreadsheet in Microsoft Excel.

(2) By hard copy: Submit by U.S. mail or hand-delivery to: Public Comments Processing, Attn: FWS-R2-ES-2012-0047; Division of Policy and Directives Management; U.S. Fish and Wildlife Service; 4401 N. Fairfax Drive, MS 2042-PDM; Arlington, VA 22203.

We will post all information we receive on http://www.regulations.gov. This generally means that we will post any personal information you provide us (see the Request for Information section below for more details).

FOR FURTHER INFORMATION CONTACT: Steve Spangle, Field Supervisor, U.S. Fish and Wildlife Service, Arizona Ecological Services Office, 2321 West Royal Palm Road, Suite 103, Phoenix, AZ 85021; by telephone (602-242-0210); or by facsimile (602-242-2513). If you use a telecommunications device for the deaf (TDD), please call the Federal Information Relay Service (FIRS) at 800-877-8339.

SUPPLEMENTARY INFORMATION:

Request for Information

When we make a finding that a petition presents substantial information indicating that listing a species may be warranted, we are required to promptly review the status of the species (status review). For the status review to be complete and based on the best available scientific and commercial information, we request information on Bartram stonecrop and beardless chinch weed from governmental agencies, Native American Tribes, the scientific community, industry, and any other interested parties. We seek information on:

(1) The species' biology, range, and population trends, including:

(a) Habitat requirements for reproduction, germination, and survival;

(b) Genetics and taxonomy;

(c) Historical and current range including distribution patterns;

(d) Historical and current population levels, and current and projected trends; and

(e) Past and ongoing conservation measures for the species, its habitat, or both.

(2) The factors that are the basis for making a listing, delisting, or downlisting determination for a species under section 4(a) of the Endangered Species Act of 1973, as amended (Act) (16 U.S.C. 1531 et seq.), which are:

(a) The present or threatened destruction, modification, or curtailment of its habitat or range;

(b) Overutilization for commercial, recreational, scientific, or educational purposes;

(c) Disease or predation;

(d) The inadequacy of existing regulatory mechanisms; or

(e) Other natural or manmade factors affecting its continued existence.

If, after the status review, we determine that listing Bartram stonecrop or beardless chinch weed, or both, is warranted, we will propose critical habitat (see definition in section 3(5)(A) of the Act), under section 4 of the Act, to the maximum extent prudent and determinable at the time we propose to list the species. Therefore, we request data and information on:

(1) What may constitute “physical or biological features essential to the conservation” of each species within the geographical range currently occupied by the species;

(2) Where these features are currently found;

(3) Whether any of these features may require special management considerations or protection;

(4) Specific areas outside the geographical area occupied by the species that are “essential for the conservation of the species;” and

(5) What, if any, critical habitat you think we should propose for designation if the species is proposed for listing, and why such habitat meets the requirements of section 4 of the Act.

Please include sufficient information with your submission (such as scientific journal articles or other publications) to allow us to verify any scientific or commercial information you include.

Submissions merely stating support for or opposition to the action under consideration without providing supporting information, although noted, will not be considered in making a determination. Section 4(b)(1)(A) of the Act directs that determinations as to whether any species is an endangered or threatened species must be made “solely on the basis of the best scientific and commercial data available.”

You may submit your information concerning this status review by one of the methods listed in the ADDRESSES section. If you submit information via http://www.regulations.gov, your entire submission—including any personal identifying information—will be posted on the Web site. If you submit a hardcopy that includes personal identifying information, you may request at the top of your document that we withhold this personal identifying information from public review. However, we cannot guarantee that we will be able to do so. We will post all hardcopy submissions on http://www.regulations.gov.

Information and supporting documentation that we received and used in preparing this finding are available for you to review at http://www.regulations.gov, or you may make an appointment during normal business hours at the U.S. Fish and Wildlife Service, Arizona Ecological Services Field Office (see FOR FURTHER INFORMATION CONTACT).

Background

For the purposes of this document, we will refer to Graptopetalum bartramii as Bartram stonecrop and Pectis imberbis as beardless chinch weed.

Section 4(b)(3)(A) of the Act requires that we make a finding on whether a petition to list, delist, or reclassify a species presents substantial scientific or commercial information indicating that the petitioned action may be warranted. We are to base this finding on information provided in the petition, supporting information submitted with the petition, and information otherwise available in our files. To the maximum extent practicable, we are to make this finding within 90 days of our receipt of the petition and publish our notice of the finding promptly in the Federal Register.

Our standard for substantial scientific or commercial information within the Code of Federal Regulations (CFR) with regard to a 90-day petition finding is “that amount of information that would lead a reasonable person to believe that the measure proposed in the petition may be warranted” (50 CFR 424.14(b)). If we find that substantial scientific or commercial information was presented, we are required to promptly conduct a species status review, which we subsequently summarize in our 12-month finding.

The “substantial information” standard for a 90-day finding differs from the Act's “best scientific and commercial data” standard that applies to a status review to determine whether a petitioned action is warranted. A 90-day finding does not constitute a status review under the Act. In a 12-month finding, we will announce our determination as to whether a petitioned action is warranted after we have completed a thorough status review of the species, which is conducted following a substantial 90-day finding. Because the Act's standards for 90-day findings and status reviews conducted for a 12-month finding on a petition are different, as described above, a substantial 90-day finding does not mean that our status review and resulting determination will result in a warranted finding.

Petition History

On July 7, 2010, we received a petition dated July 7, 2010, from the Center for Biological Diversity, requesting that Bartram stonecrop and beardless chinch weed be listed as endangered or threatened and critical habitat be designated under the Act. The petition clearly identified itself as such and included the requisite identification information for the petitioner, as required by 50 CFR 424.14(a). In a December 1, 2011, letter to the Center for Biological Diversity, we responded that we reviewed the information presented in the petition and determined that issuing an emergency regulation temporarily listing the species under section 4(b)(7) of the Act was not warranted. We also stated that per the Multi-District Litigation Settlement Agreements (WildEarth Guardians v. Salazar, No. 1:10-mc-00377-EGS (D. D.C.), we are required to complete an initial finding in Fiscal Year 2012 as to whether this petition contains substantial information indicating that the action may be warranted. This 90-day finding addresses the July 7, 2010, petition.

Previous Federal Actions

Initially, Bartram stonecrop and beardless chinch weed were included as Category 1 species in the 1980 Review of Plant Taxa for Listing as Endangered or Threatened Species (45 FR 82480, December 15, 1980). Category 1 candidates were defined as species for which the Service had sufficient information on hand to support the biological appropriateness of them being listed as endangered or threatened species. Subsequently, Bartram stonecrop and beardless chinch weed were included as Category 2 candidate species in the 1983 Supplement to Review of Plant Taxa for Listing as Endangered or Threatened Species (48 FR 53640, November 28, 1983). Category 2 species were taxa for which information in our possession indicated that proposing to list was possibly appropriate, but for which persuasive data on biological vulnerability and threats were not available to support a proposed listing rule. The designation of Category 2 species was discontinued in the 1996 Notice of Final Decision on Identification of Candidates for Listing as Endangered or Threatened (61 FR 64481, December 5, 1996); therefore, since that time, these species were not, and are not currently, considered candidates.

For each of the species, we provide a description of the species and its life history and habitat, followed by an evaluation of the information for each species, and our finding whether or not substantial information is presented to indicate that the petitioned action may be warranted for each species.

Species Information for Bartram Stonecrop

Taxonomy and Description

The petition did not provide detailed information on taxonomy or a description of Bartram stonecrop; therefore, we used information readily available in our files. Bartram stonecrop was described by J. N. Rose in 1926 from specimens collected by E. Bartram. In 1936, T. H. Kearney and R. H. Peebles changed the name of all Arizona species in the genera Graptopetalum and Dudleya to the genus Echeveria (Kearney and Peebles 1951, pp. 358-362; Phillips et al. 1982a, p. 1). Although the Flora of Arizona (Kearney and Peebles 1951, p. 360) maintains E. bartramii, Phillips et al. (1982a, p. 2) note that most botanists recently concerned with this family separate the genera Graptopetalum and Dudleya. Because botanists in recent decades accept the characterization of Graptopetalum bartramii as a species, we concur.

Bartram stonecrop is a small, succulent (fleshy), acaulescent (without a stem) perennial plant in the Crassulaceae or stonecrop family (Phillips et al. 1982a, p. 2). The plant has a basal rosette comprising 20 or more flat to concave, smooth, blue-green leaves (Phillips et al. 1982a, p. 2). Flower stalks up to 30.5 centimeters (cm) (12 inches (in)) in height and topped with panicles (equilaterally arranged flowering stems) are produced in late October to early November (Phillips et al. 1982a, pp. 2, 7). Each panicle produces one to three five-petaled, brown-to-red spotted flowers that are 2.54 cm (1.0 in) or more across (Phillips et al. 1982a, p. 3).

Habitat

The petition notes that Bartram stonecrop is found in rock crevices, ledges, and gravelly slopes from 1,113 to 2,042 meters (m) (3,652 to 6,700 feet (ft)) in elevation in southern Arizona and Mexico. The plant is typically found in the shade of Madrean evergreen woodland overstory and under dense litter (Phillips et al. 1982a, p. 4). The petition states that this species is known from 12 locations in Arizona, including the Baboquivari, Chiricahua, Dragoon, Mule, Patagonia, Rincon, Santa Rita, and Tumacacori Mountains in Cochise, Pima, and Santa Cruz Counties, as well as from one location in Mexico. The petition makes special note that populations are known to be very small, typically consisting of a few individuals, and widely scattered.

Species Information for Beardless Chinch Weed

Taxonomy and Description

The petition did not provide detailed information on taxonomy or a description of beardless chinch weed; therefore, we used information readily available in our files. Beardless chinch weed was first collected by Charles Wright in the early 1850s in Sonora, Mexico, and was described by Asa Gray in 1853 (Phillips et al. 1982b, p. 1). The name has remained unchanged since that time, and there are no known synonyms; therefore, we accept the characterization of beardless chinch weed as a valid species.

Beardless chinch weed is an erect, many-branched, perennial herb growing 3-12 decimeters (dm) (12 to 47 in) from a woody caudex (stem base) (Phillips et al. 1982b, p. 2). The glabrous (without hairs) leaves are 1 to 5 cm (0.4 to 2 in) in length and 1 to 2 millimeters (mm) (0.04 to 0.08 in) wide with pointed tips, becoming smaller toward the tips (Phillips et al. 1982b, p. 2). The leaves have a row of narrow, oval-shaped glands on the underside surface near each margin and a single, oval-shaped gland on the upper surface (Phillips et al. 1982b, p. 2). Daisy-like flower heads containing yellow ray and disk flowers are solitary or in open, flat-topped clusters at the tips of the branches (Phillips et al. 1982b, p. 2). The petals are also dotted with oil glands (Arizona Game and Fish Department 2003, p. 1). Flowering occurs from August to October when the plants are over 0.5 m (1.6 ft) in height (Kearney and Peebles 1951, p. 935; Phillips et al. 1982b, p. 8). Unlike other species in this genus, beardless chinch weed has no fine hairs fringing the base of the upper leaves; instead, it has a single pair of trichomes (hair-like growth) on the lower leaves (Fishbein and Warren 1994, p. 19).

Habitat

Beardless chinch weed is found in the Atascosa, Huachuca, Oro Blanco, Patagonia, and Santa Rita Mountains, and the Canelo Hills of Cochise, Pima, and Santa Cruz Counties, Arizona, as well as Chihuahua and Sonora, Mexico, from 1,150 to 1,725 m (3,773 to 5,660 ft) in elevation (Fishbein and Warren 1994, p. 19). All but two known populations in the United States occur on lands managed by the Coronado National Forest (Fishbein and Warren 1994, p. 20). While more typically found in tropical deciduous forests and oak woodlands at higher elevations, and grasslands at lower elevations, it has also been found on disturbed road cuts, arroyo cuts, and unstable rocky slopes, where it has little competition for sunlight (Phillips et al. 1982b, pp. 4, 6; Fishbein and Warren 1994, p. 19). Of the 24 beardless chinch weed collections and occurrence location information in our files, 5 are from road cuts, and 19 are from grasslands (Deecken 1991, p. 1; Deecken 1992, p. 1; Deecken 1994, p. 1; Fishbein and Warren 1994, pp. 22-24).

Abundance

There are 11 populations of beardless chinch weed in southern Arizona; all populations are considered small (Fishbein and Warren 1994, p. 19). The following is a summary of the locations and population estimates for beardless chinch weed in Arizona. A 1993 survey of Scotia Canyon found 125 individuals (Fishbein and Warren 1994, p. 22); surveys in the Canelo Hills from 1991, 1992, and 1994 located 15, 40, and 4 individuals, respectively (Deecken 1991, p. 1; Deecken 1992, p. 1; Deecken 1994, p. 1); and a 1980-1981 survey done along the Ruby Road found 100 plants in 4 different locations (Phillips et al. 1982b, p. 8). In addition, we have records of two herbarium collections—Peña Blanca Lake Recreation Area in 1975 (seven individuals) and the Santa Rita Mountains in 1981 (two individuals) (Fishbein and Warren 1994, p. 22). No other populations have recorded estimates, and no population estimates for known populations have been made since 1993. The petition states that surveys in potential habitat in the Huachuca Mountains and Canelo Hills in 1994 did not detect new populations and that the plant has not been seen in several Coronado National Forest sites since the late 1970s.

The distribution and abundance of the species in Mexico is unknown, though beardless chinch weed has been collected from the Distrito Alamos and the Region of the Rio Bavispe in Sonora and the upper Rio Mayo basin in Chihuahua and Sonora (Fishbein and Warren 1994, pp. 20, 24). The petition states that the plant has not been seen in Mexico since last collected there in 1936. The petition emphasizes that small population size exists across the species' range, warning that impacts to individual plants could result in population extirpation.

Evaluation of Information for This Finding

Section 4 of the Act (16 U.S.C. 1533) and its implementing regulations at 50 CFR part 424 set forth the procedures for adding a species to, or removing a species from, the Federal Lists of Endangered and Threatened Wildlife and Plants. A species may be determined to be an endangered or threatened species due to one or more of the five factors described in section 4(a)(1) of the Act:

(A) The present or threatened destruction, modification, or curtailment of its habitat or range;

(B) Overutilization for commercial, recreational, scientific, or educational

purposes;

(C) Disease or predation;

(D) The inadequacy of existing regulatory mechanisms; or

(E) Other natural or manmade factors affecting its continued existence.

In considering what factors might constitute threats we must look beyond the mere exposure of the species to the factor to determine whether the species responds to the factor in a way that causes actual impacts to the species. If there is exposure to a factor, but no response, or only a positive response, that factor is not a threat. If there is exposure and the species responds negatively, the factor may be a threat and we then attempt to determine how significant a threat it is. If the threat is significant, it may drive or contribute to the risk of extinction of the species such that the species may warrant listing as an endangered or threatened species as those terms are defined by the Act. This does not necessarily require empirical proof of a threat. The combination of exposure and some corroborating evidence of how the species is likely impacted could suffice. The mere identification of factors that could impact a species negatively may not be sufficient to compel a finding that listing may be warranted. The information must contain evidence sufficient to suggest that these factors may be operative threats that act on the species to the point that the species may meet the definition of an endangered or threatened species under the Act.

In making this 90-day finding, we evaluated whether information regarding the status and threats to Bartram stonecrop and beardless chinch weed, as presented in the petition and other information readily available in our files, is substantial, thereby indicating that the petitioned action may be warranted. Our evaluation of this information is presented below.

Evaluation of Petition Information and Finding for Bartram Stonecrop

The petition presented information regarding the following factors as potential threats to the Bartram stonecrop: Mining, livestock grazing, recreation, road construction and maintenance, border patrol activities, exotic plant invasion and control, conversion of habitat for cultivation, overutilization, inadequacy of existing regulatory mechanisms, small population size, low reproductive rates, loss of protective cryptobiotic soils (a biological soil crust composed of living algae, fungi or lichens commonly found in arid regions) stochastic events, drought, and climate change. After reviewing the petition and other information presented by the petitioner and information readily available in our files, we have determined that there is substantial information to indicate that the Bartram stonecrop may warrant listing as a result of its apparently small population sizes that are subject to unauthorized collection. Following we present a discussion of these factors.

As discussed in the “Species Information for Bartram Stonecrop” section above, the petitioner notes that populations are known to be very small, typically consisting of a few individuals, and widely scattered. Because Bartram stonecrop populations are small and discrete, they are vulnerable to a variety of disturbances, especially collection (USDA Forest Service 1991). The petition presented information that Bartram stonecrop has been collected, and that declines in the known populations may be due to collection (USDA Forest Service 1991).

The petition also references Phillips et al. (1982a, p. 9), who report moderate to heavy recreational use near occupied sites, possibly increasing the likelihood of plant collection, especially when the plants are in bloom. Additional information readily available in our files states that stonecrop species in general are sometimes collected for the cactus and succulent trade, with rare species such as Bartram stonecrop, particularly sought (Coronado National Forest 2007, p. 13; USDA Forest Service 1991, p. 2). In addition, it is noteworthy that Phillips et al. (1982a, p. 4) did not provide specific locations in their report due to concern that plants of Bartram stonecrop might be targeted for collection. Van Devender (1981, pp. 3-4) mentions that collecting probably has an important impact, noting that Bartram stonecrop is attractive and often collected.

Small populations may not be able to recover from collection, especially if the mature, reproductive plants are removed. The removal of mature plants reduces the overall reproductive effort of the population, thereby reducing the overall resilience of the population. Collection may have a profound effect on Bartram stonecrop populations due to the small number of locations and small population size.

The information presented by the petitioner and readily available in our files suggests the Bartram stonecrop is subject to overutilization pressures and has apparently experienced declines in some populations as a result. This information is sufficient to suggest that this factor may be an operative threat that acts on the species to the point that it may meet the definition of an endangered or threatened species under the Act. Therefore, on the basis of our determination under section 4(b)(3)(A) of the Act, we find that the petition presents substantial scientific or commercial information indicating that listing Bartram stonecrop throughout its entire range may be warranted. Because we have found that the petition presents substantial information indicating that listing Bartram stonecrop may be warranted, we will be initiating a status review to determine whether listing Bartram stonecrop under the Act is warranted.

This finding was made primarily based on information related to small population size and collection. However, as noted above, the petitioners also presented information suggesting that mining, livestock grazing, recreation, road construction and maintenance, border patrol activities, exotic plant invasion and control, conversion of habitat for cultivation, inadequacy of existing regulatory mechanisms, low reproductive rates, loss of protective cryptobiotic soils, stochastic events, drought, and climate change may be threats to the Bartram stonecrop. We will fully evaluate these potential threats during our status review, pursuant to the Act's requirement to review the best available scientific information when making that finding. Accordingly, we encourage the public to consider and submit information related to these and any other threats that may be operating on the Bartram stonecrop (see Request for Information).

Evaluation of Petition Information and Finding for Beardless Chinch Weed

The petition presented information regarding the following factors as potential threats to the beardless chinch weed: Mining, livestock grazing, recreation, road maintenance, exotic plant invasion and control, conversion of habitat for cultivation, inadequacy of existing regulatory mechanisms, small population size, low reproductive rates, stochastic events, drought, and climate change. After reviewing the petition, information presented by the petitioner, and information readily available in our files, we have determined that substantial information was presented to indicate that the beardless chinch weed may warrant listing due to the present or threatened destruction, modification, or curtailment of its habitat or range as a result of livestock grazing. Following we present a discussion of these significant factors.

With regard to the destruction, modification, or curtailment of beardless chinch weed habitat or range, the petition cites the USDA Forest Service (2003, 2004, 2005, and 2006), which acknowledges there have been impacts to beardless chinch weed individuals due to livestock herbivory and trampling. The petition states that impacts on individuals may have population-level effects because some populations are very small and there are only 13 known populations in Arizona. Eight of the known populations occur within grazing allotments on the Coronado National Forest, which the petition claims are heavily grazed. The petition also references Phillips et al. (1992b) and Fishbein and Warren (1994) who report that plants do not flower until they are over 0.5 m (1.6 ft) tall and, under heavy grazing pressure, beardless chinch weed plants may be unable to attain adequate size for reproduction. An inability of the plants to reproduce could affect the stability of the populations and lead to an overall decrease in the species' vigor within these populations.

Additional information readily available in our files states that grazing pressure may have contributed to the species' rareness; however, there is no evidence presented for this observation (Keil 1982, pers. comm.). Falk and Warren (1994, p. 157) state that the species is thought to be susceptible to impacts from grazing. Deecken (1992, p. 1) noted finding a population of 15 or more plants on the edge of a cattle trail. In addition, Deecken (1995, pers. comm.) described a Coronado National Forest project that realigned a fence to prevent cattle from moving downslope through beardless chinch weed sites. Of the 24 records in our files that provide any indication of habitat, 19 were from grasslands of varying slope and likely accessible to livestock. This information indicates that livestock grazing may affect the species and its habitat, but does not provide conclusive evidence.

The information presented by the petitioner and readily available in our files suggests that the beardless chinch weed is subject to livestock grazing pressures throughout much of its range and has apparently experienced declines in some populations as a result. This information is sufficient to suggest that this factor, exacerbated by the small population size, may be an operative threat that acts on the species to the point that it may meet the definition of an endangered or threatened species under the Act. Therefore, on the basis of our determination under section 4(b)(3)(A) of the Act, we find that the petition presents substantial scientific or commercial information indicating that listing beardless chinch weed throughout its entire range may be warranted. Because we have found that the petition presents substantial information indicating that listing beardless chinch weed may be warranted, we will initiate a status review to determine whether listing beardless chinch weed under the Act is warranted.

This finding was made primarily based on information related to the present or threatened destruction, modification, or curtailment of its habitat or range as a result of livestock grazing. However, as noted above, the petitioners also presented information suggesting that mining, livestock grazing, recreation, road maintenance, exotic plant invasion and control, conversion of habitat for cultivation, inadequacy of existing regulatory mechanisms, small population size, low reproductive rates, stochastic events, drought, and climate change may be threats to the beardless chinch weed. We will fully evaluate these potential threats during our status review, pursuant to the Act's requirement to review the best available scientific information when making that finding. Accordingly, we encourage the public to consider and submit information related to these and any other threats that may be operating on the beardless chinch weed (see Request for Information).

References Cited

A complete list of references cited is available on the Internet at http://www.regulations.gov and upon request from the U.S. Fish and Wildlife Service, Arizona Ecological Services Field Office (see FOR FURTHER INFORMATION CONTACT).

Author

The primary authors of this notice are the staff of the U.S. Fish and Wildlife Service, Arizona Ecological Services Field Office (see FOR FURTHER INFORMATION CONTACT).

Authority

The authority for this action is the Endangered Species Act of 1973, as amended (16 U.S.C. 1531 et seq.).

Dated: July 26, 2012.
Thomas O. Melius,
Director, U.S. Fish and Wildlife Service.

[FR Doc. 2012-19334 Filed 8-7-12; 8:45 am]

BILLING CODE 4310-55-P